DEPARTMENT OF DEFENSE

Department of the Army

[USA-2007-0009]

Privacy Act of 1974; System of Records

AGENCY: Department of the Army, DoD.

ACTION: Notice to Alter a System of Records.

SUMMARY: The Department of the Army is proposing to alter a system of records in its existing inventory of records systems subject to the Privacy Act of 1974, (5 U.S.C. 552a), as amended.

DATES: The proposed action will be effective on April 27, 2007 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Robert Dickerson at (703) 428-6513.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on March 13, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: March 14, 2007.
C.R. Choate,
Alternate OSD Federal Register Liaison Officer, Department of Defense.

A0025-2c SAIS DoD

System name:

Department of Defense Detainee Biometric Information Systems. (September 28, 2005, 70 FR 56645).

Changes:

* * * * *

Categories of individuals covered by the system:

Delete entry and replace with “Individuals in the custody of the Department of Defense as result of military operations overseas or due to maritime intercepts that have been determined to be U.S. citizens or alien lawfully admitted for permanent residence.”

* * * * *

Authority for maintenance of the system:

Delete entry and replace with 10 U.S.C. 113, Secretary of Defense; 10 U.S.C. 3013, Secretary of the Army; 10 U.S.C. 5013, Secretary of the Navy; 10 U.S.C. 8013, Secretary of the Air Force; Public Law 106-246, Section 112, Emergency Supplemental Act; Department of Defense Directive 8500.1, Information Assurance (IA); DoD Instruction 8500.2, Information Assurance Implementation; Army Regulation 25-2, Information Assurance; Deputy Secretary of Defense Memorandum, “Executive Agent for the Department of Defense (DoD) Biometrics Project”; Deputy Secretary of Defense Memorandum, “Collection of Biometric Data from Certain U.S. Persons in USCENTCOM AOR”; and E.O.9397(SSN).

Purpose(s):

Delete entry and replace with “To identify an individual or to verify/authenticate the identity of an individual, who is detained due to overseas military operations and maritime interceptions, by using a biometric (i.e., measurable physiological or behavioral characteristic). Information is used for purposes of protecting U.S./Coalition/allied government and/or U.S./Coalition/allied national security areas of responsibility and information.”

Routine uses of records maintained in the system, including categories of users and the purposes of such uses:

Add “To Federal, State, tribal, local, or foreign agencies for the purposes of law enforcement, counterterrorism, immigration management and control, and homeland security as authorized by U.S. Law or Executive Order, or for the purpose of protecting the territory, people, and interests of the United States of America against breaches of security related to DoD controlled information or facilities, and against terrorist activity.”

* * * * *

Retrievability:

Add to entry “subject, application program key.”

Safeguards:

Delete entry and replace with “Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know.”

Retention and disposal:

Delete entry and replace with “Data is destroyed when superseded or when no longer needed for operational purposes, whichever is later.”

System manager(s) and address:

Delete entry and replace with “Director of Operations, Department of Defense Biometrics Task Force, 2530 Crystal Drive, Arlington, VA 22202-3934.”

Notification procedure:

Delete entry and replace with “Individuals seeking to determine whether information about themselves is contained in this system should address written inquiries to the Director of Operations, Department of Defense Biometrics Task Force, 2530 Crystal Drive, Arlington, VA 22202-3934.

For verification purposes, individual should provide full name, sufficient details to permit locating pertinent records, and signature.”

Record access procedures:

Delete entry and replace with “Individuals seeking access to information about themselves contained in this system should address written inquiries to the Director of Operations, Department of Defense Biometrics Task Force, 2530 Crystal Drive, Arlington, VA 22202-3934.

For verification purposes, individual should provide full name, sufficient details to permit locating pertinent records, and signature.”

* * * * *

Record source categories:

Delete entry and replace with “From the individual, DoD security offices, system managers, computer facility managers, automated interfaces for user codes on file at Department of Defense sites.”

* * * * *

A0025-2c SAIS DoD

System name:

Department of Defense Detainee Biometric Information System.

System location:

Department of Defense Biometrics Fusion Center, 347 West Main Street, Clarksburg, WV 26306-2947.

Categories of individuals covered by the system:

Individuals in the custody of the Department of Defense as result of military operations overseas or due to maritime intercepts that have been determined to be U.S. citizens or alien lawfully admitted for permanent residence.

Categories of records in the system:

Individual's name, Social Security Number (SSN), biometrics templates, biometric images, supporting documents, and biographic information including, but not limited to, date of birth, place of birth, height, weight, eye color, hair color, race, gender, and similar relevant information.

Authority for maintenance of the system:

10 U.S.C. 113, Secretary of Defense; 10 U.S.C. 3013, Secretary of the Army; 10 U.S.C. 5013, Secretary of the Navy; 10 U.S.C. 8013, Secretary of the Air Force; Public Law 106-246, Section 112, Emergency Supplemental Act; Department of Defense Directive 8500.1, Information Assurance (IA); DoD Instruction 8500.2, Information Assurance Implementation; Army Regulation 25-2, Information Assurance; Deputy Secretary of Defense Memorandum, “Executive Agent for the Department of Defense (DoD) Biometrics Project”; Deputy Secretary of Defense Memorandum, “Collection of Biometric Data from Certain U.S. Persons in USCENTCOM AOR”; and E.O.9397(SSN).

Purpose(s):

To identify an individual or to verify/authenticate the identity of an individual, who is detained due to overseas military operations and maritime interceptions, by using a biometric (i.e., measurable physiological or behavioral characteristic). Information is used for purposes of protecting U.S./Coalition/allied government and/or U.S./Coalition/allied national security areas of responsibility and information.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, State, tribal, local, or foreign agencies for the purposes of law enforcement, counterterrorism, immigration management and control, and homeland security as authorized by U.S. Law or Executive Order, or for the purpose of protecting the territory, people, and interests of the United States of America against breaches of security related to DoD controlled information or facilities, and against terrorist activity.”

The DoD “Blanket Routine Uses” set forth at the beginning of the Army's compilation of systems of records notices also apply to this system.

Policies and practices for storing, retrieving, accessing, retaining, and disposing of records in the system:

Storage:

Paper records in file folders and electronic storage media.

Retrievability:

Name, Social Security Number (SSN), subject, application program key, biometric template, and other biometric data.

Safeguards:

Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know.

Retention and disposal:

Data is destroyed when superseded or when no longer needed for operational purposes, whichever is later.

System manager(s) and address:

Director of Operations, Department of Defense Biometrics Task Force, 2530 Crystal Drive, Arlington, VA 22202-3934.

Notification procedure:

Individuals seeking to determine whether information about themselves is contained in this system should address written inquiries to the Director of Operations, Department of Defense Biometrics Task Force, 2530 Crystal Drive, Arlington, VA 22202-3934.

For verification purposes, individual should provide full name, sufficient details to permit locating pertinent records, and signature.

Record access procedures:

Individuals seeking access to information about themselves contained in this system should address written inquiries to the Director of Operations, Department of Defense Biometrics Task Force, 2530 Crystal Drive, Arlington, VA 22202-3934.

For verification purposes, individual should provide full name, sufficient details to permit locating pertinent records, and signature.

Contesting record procedures:

The Army's rules for accessing records, and for contesting contents and appealing initial agency determinations are contained in Army Regulation 340-21; 32 CFR part 505; or may be obtained from the system manager.

Record source categories:

From the individual, DoD security offices, system managers, computer facility managers, automated interfaces for user codes on file at Department of Defense sites.

Exemptions claimed for the system:

None.

[FR Doc. 07-1377 Filed 3-27-07; 8:45 am]

BILLING CODE 5001-06-P